DEPARTMENT OF THE INTERIOR

Bureau of Land Management

[WY-100-05-1310-DB]

Cancellation of the Pinedale Anticline Working Group Meeting

AGENCY: Bureau of Land Management, Interior.

ACTION: Cancellation of public meeting.

SUMMARY: The August 1, 2006 PAWG meeting has been cancelled. Another PAWG meeting will be announced when new PAWG members have been appointed.

DATES: The PAWG meeting scheduled for August 1, 2006, has been cancelled.

ADDRESSES: The meeting was scheduled to be held in the Lovatt room of the Pinedale Library, 155 S. Tyler Ave., Pinedale, WY.

FOR FURTHER INFORMATION CONTACT: Matt Anderson, BLM/PAWG Liaison, Bureau of Land Management, Pinedale Field Office, 432 E. Mills St., PO Box 738, Pinedale, WY, 82941; 307-367-5328.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

Dated: July 20, 2006.
Dennis Stenger,
Field Office Manager.

[FR Doc. E6-12014 Filed 7-26-06; 8:45 am]

BILLING CODE 4310-22-P